DEPARTMENT OF THE INTERIOR

Office of the Secretary

Privacy Act of 1974, as Amended; Revisions to the Existing System of Records

AGENCY: Office of the Secretary, National Business Center, Aviation Management Directorate (AMD), Interior.

ACTION: Proposed Revisions to an Existing System of Records.

SUMMARY: In accordance with the Privacy Act of 1974, as amended (5 U.S.C. 552a), the Office of the Secretary, National Business Center, Aviation Management Directorate (NBC-AMD) is issuing public notice of its intent to modify an existing Privacy Act system of records, DOI-07, “Federal and Non-Federal Aviation Personnel, Equipment, and Mishap Information System.” The revisions will reflect the reorganization of the old Office of Aircraft Services into the current Aviation Management Directorate, with changes in office names, locations, and contact numbers. Further updates reflect the implementation of a new electronic Interagency Aviation Accident Database (IAAD) used for querying the collection of aviation accident and incident-with-potential (IWP) reports compiled by the USDA Forest Service and NBC-AMD for trend analysis of factors contributing to aviation mishaps. It also serves a secondary function as an archive of aviation accident and IWP investigation documents.

DATES: Comments must be received by November 3, 2009.

ADDRESSES: Send written comments to the U.S. Department of the Interior, Office of the Secretary, Privacy Officer, 1951 Constitution Avenue, NW., MS 116 SIB, Washington, DC 20240. You may also e-mail comments to Linda_Thomas@nbc.gov, or fax them to (202) 219-2374. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Associate Director, National Business Center, Aviation Management, 300 E. Mallard Drive, Suite 200, Boise, Idaho 83706. You may also telephone (208) 433-5000.

SUPPLEMENTARY INFORMATION: The NBC-AMD is proposing to amend the system notice for DOI-07, “Federal and Non-Federal Aviation Personnel, Equipment, and Mishap Information System” to reflect organizational changes. The Office of Aircraft Services was reorganized under the National Business Center as the Aviation Management Directorate. AMD's area offices were re-categorized as regional offices; locations and contact numbers were changed. Accordingly, the NBC-AMD proposes to amend the “Federal and Non-Federal Aviation Personnel, Equipment, and Mishap Information System,” DOI-07. Comments received within 40 days of publication in the Federal Register will be considered. The system changes will be effective as proposed at the end of the comment period unless comments are received which would require a contrary determination. The Department will publish a revised notice if changes are made based upon a review of comments received.

Dated: September 21, 2009.
Linda S. Thomas,
Privacy Officer, Office of the Secretary.

Privacy Act; Systems of Records

SYSTEM NAME:

Federal and Non-Federal Aviation Personnel, Equipment, and Mishap Information Systems—Interior, Office of the Secretary, DOI-07.

SYSTEM LOCATION:

(1) National Business Center, Aviation Management Directorate, Aviation Safety and Evaluations Office, 300 E. Mallard Drive, Suite 200, Boise, Idaho 83706, (2) National Business Center, Aviation Management Directorate, Division of Technical Services, 300 E. Mallard Drive, Suite 200, Boise, Idaho 83706, (3) National Business Center, Aviation Management Directorate, Alaska Regional Office, 4405 Lear Court, Alaska 95502-1052, (4) National Business Center, Aviation Management Directorate, Western Regional Office—Boise, 960 Broadway Avenue, Suite 300, Boise, Idaho 83706, (5) National Business Center, Aviation Management Directorate, Western Regional Office—Phoenix, 22601 North 19 Avenue, Suite 208, Phoenix, Arizona 85027, (6) National Business Center, Aviation Management Directorate, Eastern Regional Office, 3190 NE. Expressway, Suite 110, Chamblee, GA 30341.

CATEGORIES OF RECORDS COVERED BY THE SYSTEM:

The system contains information relative to certificates, qualifications, experience levels, training and proficiency, and performance of individuals. Identifying information pertaining to individuals includes name, birth date, and social security number or FAA certificate number. The system also contains aviation mishap data pertaining to accidents, incidents-with-potential (IWPs), incidents, aviation hazards and maintenance deficiencies. This information includes accident summary, accident and other mishap reports, type of mishap, contributing factors, aircraft identification data, and pilot, crewmember, and mechanic certificate number.

AUTHORITY FOR MAINTENANCE OF THE SYSTEM:

Department of the Interior Manual, sections 112 DM 10; 350 DM 1; 350 DM1 Appendix 2; and 352 DM1. Additionally, 5 U.S.C. 301; and Reorganization Plan 3 of 1950.

ROUTINE USES OF RECORDS MAINTAINED IN THE SYSTEM, INCLUDING CATEGORIES OF USER AND THE PURPOSES OF SUCH USES:

Disclosures within the Department of the Interior may be made to employees of the Department: (1) To determine aircraft/crew/mechanic/ground personnel qualifications to comply with the NBC-AMD procedures and directives: (2) To perform aircraft mishap trend analysis and develop statistical data for use in the Interior Aircraft Accident Prevention Program.

Disclosures outside the Department of the Interior may be made: (1) To the U.S. Department of Justice or in a proceeding before a court or adjudicative body when, (a) the United States, the Department of the Interior, a component of the Department, or when represented by the government, an employee of the Department is a party to litigation or anticipated litigation or has an interest in such litigation, and (b) the Department of the Interior determines that the disclosure is relevant or necessary to the litigation and is compatible with the purpose for which the records were compiled; (2) To appropriate Federal, State, local or foreign agencies responsible for investigating or prosecuting the violation or for enforcing or implementing the statute, rule, regulation, order, or license when the Department or one of bureaus or offices becomes aware of information indicating a violation or potential violation of a statute, regulation, rule, order or license; (3) To a Federal agency which has requested information necessary or relevant to the hiring, firing, or retention of an employee, or issuance of a security clearance, contract, license, pilot qualification card, grant or other benefit, but only to the extent that the information disclosed is relevant and necessary to the requesting agency's decision on the matter; (4) To Federal, State, local agencies or commercial businesses where necessary to obtain information relevant to the hiring or retention of an employee, or the issuance of a security clearance, license, pilot qualification card, grant or other benefit; (5) To a congressional office from the record of an individual covered by the system in response to an inquiry the individual, or the heir of such individual if the covered individual is deceased, has made to the congressional office; (6) To an expert, consultant, or contractor (including employees of the contractor) of the Department of the Interior that performs, on behalf of the DOI, services requiring access to these records; (7) To an official of another Federal agency to provide information needed in the performance of official duties related to reconciling or reconstructing data files, in support of the functions for which the records were collected and maintained; (8) To representatives of the General Services Administration or the National Archives and Records Administration to conduct records management inspections under the authority of 44 U.S.C. 2903 and 2904; and (9) to the U.S. Forest Service in joint efforts to perform trend analysis on aviation accidents that occur on flights conducted.

POLICIES AND PRACTICES FOR STORING, RETRIEVING, ACCESSING, RETAINING, AND DISPOSING OF RECORDS IN THE SYSTEM:

STORAGE:

Records are maintained manually, in file folders or on microfiche film, or electronically, in computer files located on the Aviation Management Directorate's local area network accessed at the above address(es).

RETRIEVABILITY:

(1) Records on Interior employees are indexed by agency, location, name, FAA certificate number, social security number, duty classification, type of mishap, accident summary and date of birth; (2) Records on commercial operator personnel are indexed by name, FAA certificate number, social security number, type of mishap, accident summary, and date of birth; (3) Records on cooperating government agencies, organizations, and private individuals are indexed by agency, location, name, FAA certificate number, social security number, type of mishap, accident summary and date of birth; (4) Records stored in the IAAD can be retrieved by mishap number, date, time, aircraft tail number, aircraft ID, aircraft type, aircraft manufacturer, aircraft model, vendor name, light conditions, visibility, weather conditions, event type, procurement, home base, accident location, State, operational control, type of mission, type of flight profile, pilot-in-command, second-in-command, number of crew members, number of qualified non-crewmembers, number of passengers, total number of souls on board, number of injuries, fatigue factors, flight hours, phase of occurrence, human factors, National Transportation Safety Board findings, probable cause, and costs.

SAFEGUARDS:

TECHNICAL SECURITY:

Access to records is limited to Departmental and contract personnel who are granted password access, and have an official need to use the records in the performance of their duties in accordance with requirements found in the DOI's Privacy Act regulations (43 CFR 2.51). Additionally, electronic records are protected by a firewall, network authentication (secure server), encryption, and file integrity auditing software meeting the requirements of 43 CFR 2.51 which conform to Office of Management and Budget and Departmental guidelines reflecting the implementation of the Federal Information Security Management Act.

PHYSICAL SECURITY:

Each geographic location is physically secured by entry access cards. When data is not in use by authorized personnel, paper and microfiche records are stored in locked file cabinets or in secured rooms. Electronically stored records are protected from unauthorized access through use of access codes, entry logs, and other system-based protection methods. The computer servers in which records are stored are located in computer facilities that are secured by alarm systems and off-master key access. A Privacy Act Warning Notice appears where records containing information on individuals are stored or displayed. Backup tapes are stored in a locked and controlled room in a secure, off-site location.

ADMINISTRATIVE SECURITY:

All Departmental and/or contract employees must undergo mandatory records, security, and IT training before access is granted.

RETENTION AND DISPOSAL:

Records will be disposed of in accordance with the National Archives and Records Administration General Records Schedules.

SYSTEM MANAGER(S) AND ADDRESS:

(1) Aviation Safety and Evaluations Manager, NBC-AMD, Aviation Safety and Evaluations Office, 300 E. Mallard Drive, Suite 200, Boise, Idaho 83706, (2) Chief, Division of Technical Services, NBC-AMD, 300 E. Mallard Drive, Suite 200, Boise, Idaho 83706, (3) Regional Director, NBC-AMD, Alaska Regional Office, 4405 Lear Court, Alaska 95502-1052, (4) Regional Director, NBC-AMD, Western Regional Office—Boise, 960 Broadway Avenue, Suite 300, Boise, Idaho 83706, (5) Regional Director, NBC-AMD, Eastern Regional Office, 3190 NE Expressway, Suite 110, Chamblee, GA 30341.

NOTIFICATION PROCEDURE:

A request for notification of the existence of records shall be addressed to the appropriate System Manager. The request shall be in writing, signed by the requestor, and comply with the content requirements of 43 CFR 2.60.

RECORD ACCESS PROCEDURES:

A request for access to records shall be addressed to the appropriate System Manager. The request shall be in writing, signed by the requestor, and comply with the content requirements of 43 CFR 2.63.

CONTESTING RECORD PROCEDURES:

A request for amendment of a record shall be addressed to the appropriate System Manager. The request shall be in writing, signed by the requestor, and comply with the content requirements of 43 CFR 2.71.

RECORD SOURCE CATEGORIES:

Data originates from: (1) Professional, dual-function and incidental pilots, air crews, mechanics and ground personnel employed by Interior bureaus; (2) Pilots, aircrews, mechanics, and ground personnel of commercial operators, utilized by Interior bureaus; (3) Pilots, aircrews, mechanics, and ground personnel of cooperating government agencies, organizations and private individuals, or (4) aviation mishap investigation reports.

[FR Doc. E9-23114 Filed 9-23-09; 8:45 am]

BILLING CODE 4310-RM-P